DEPARTMENT OF HEALTH AND HUMAN SERVICES

Centers for Disease Control and Prevention

[60Day-15-15IG]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Public Health Associate Program (PHAP) Alumni Assessment—New—Office for State, Tribal, Local, and Territorial Support (OSTLTS), Centers for Disease Control and Prevention (CDC).

Background and Brief Description

The Centers for Disease Control and Prevention (CDC) works to protect America from health, safety and security threats, both foreign and in the U.S. CDC strives to fulfill this mission, in part, through a competent and capable public health workforce. One mechanism to developing the public health workforce is through training programs like the Public Health Associate Program (PHAP).

The mission of the PHAP is to train and provide experiential learning to early career professionals who contribute to the public health workforce. PHAP targets recent graduates with bachelors or masters degrees that are beginning a career in public health.

Each year, a new cohort of up to 200 associates is enrolled in the program. Associates are CDC employees who complete two year assignments in a host site (i.e., a state, tribal, local, or territorial health department or non-profit organization). Host sites design their associates' assignments to meet their agency's unique needs while also providing on-the-job experience that prepare associates for future careers in public health. Associates also receive CDC-based training in core public health concepts and topics to provide the knowledge, skills, and abilities necessary to succeed in their assignments and provide a foundation for a career in public health.

PHAP hosts an initial in-person orientation and annual public health training at CDC and offers long-distance learning opportunities throughout the program. It is the goal of PHAP that following participation in the two-year program, alumni will seek employment within the public health system (i.e., federal, state, tribal, local, or territorial health agencies, or non-governmental organizations), focusing on public health, population health, or health/healthcare.

When PHAP originated in 2007, the program focused on increasing recruitment and enrollment; to date, there has been no systematic assessment of the program. As a result, one current program priority is focused on documenting program outcomes to inform refinements to program processes and activities, demonstrate program impact, and inform decision making about future program direction. The purpose of this information collection request is to gain approval to follow alumni career progression following participation in PHAP.

The collection will enable the program to demonstrate evidence of program outcomes, specifically to document how many alumni are retained as members of the public health workforce, where alumni are employed, what topical and functional public health areas alumni support (e.g., chronic disease, infectious disease, assessment, communications, etc.), to what extent alumni support the capabilities of public health agencies at the federal, state, territorial, local, tribal, and non-governmental organizational levels, and to what extent PHAP has influenced alumni career paths (if at all).

Information will be used to answer key program assessment questions, specifically: “Is PHAP a quality program?”, “Is PHAP an effective program?”, and “What is the impact of PHAP?”

CDC will administer the PHAP Alumni Assessment at three different time points (1 year post-graduation, 3 years post-graduation, and 5 years post-graduation) to PHAP alumni. Assessment questions will remain consistent at each administration (i.e., 1 year, 3 years, or 5 years post-PHAP graduation). The language, however, will be updated for each assessment administration to reflect the appropriate time period. It is estimated that there will be no more than 500 respondents annually. The estimated time for data collection is eight minutes per assessment administration. Assessments will be administered electronically; a link to the assessment Web site will be provided in the email invitation. The total annualized estimated burden is 67 hours.

There are no costs to respondents except their time.

Estimated Annualized Burden Hours
Type of respondent | Form name | Number of respondents | Number of responses per respondent | Average burden per response (in hours) | Total burden (in hours)
PHAP Alumni | PHAP Alumni Assessment | 500 | 1 | 8/60 | 67

Leroy A. Richardson,
Chief, Information Collection Review Office, Office of Scientific Integrity, Office of the Associate Director for Science, Office of the Director, Centers for Disease Control and Prevention.

[FR Doc. 2014-29925 Filed 12-22-14; 8:45 am]

BILLING CODE 4163-18-P